DEPARTMENT OF ENERGY

Federal Energy Regulatory Commission

[Project No. 1971-079]

Idaho Power Company; Notice of Availability of the Draft Supplemental Environmental Impact Statement and Revised Procedural Schedule for the Final Supplemental Environmental Impact Statement

In accordance with the National Environmental Policy Act of 1969 and the Federal Energy Regulatory Commission's (Commission) regulations, 18 CFR part 380, the Office of Energy Projects has reviewed Idaho Power Company's (Idaho Power) application for a new license to continue to operate and maintain the Hells Canyon Hydroelectric Project No. 1971 (project) and has prepared a draft supplemental environmental impact statement (SEIS) for the project.¹ The project is located on the Snake River in Washington and Adams Counties, Idaho, and Wallowa, Malheur, and Baker Counties, Oregon and occupies a total of about 5,270 acres of federal land administered by the U.S. Bureau of Land Management and the U.S. Department of Agriculture, Forest Service (Forest Service). The Hells Canyon Project consists of three developments (dams, reservoirs, and powerhouses) on the segment of the Snake River forming the border between Idaho and Oregon. The three developments are Brownlee, Oxbow, and Hells Canyon, which combined provide 1,222.3 megawatts of power generating capacity and an average of 5,571,005 megawatt-hours of electricity annually.

¹ For tracking purposes under the National Environmental Policy Act, the unique identification number for documents relating to this environmental review is SEIS-019-20-000-1756911632.

On August 31, 2007, Commission staff issued a final environmental impact statement (EIS) for the proposed relicensing of the project. On December 30, 2019, Idaho Power filed an Offer of Settlement and Stipulation and Implementation Agreement (2019 Settlement), resolving disputed issues related to spring Chinook salmon and summer steelhead passage and reintroduction with the states of Oregon and Idaho in the context of their respective water quality certifications for the project under section 401 of the Clean Water Act (401 certifications). Pursuant to the 2019 Settlement, the states of Oregon and Idaho each issued 401 certifications for the project on May 24, 2019. On July 8, 2020, Idaho Power filed a supplement to its license application that included new and revised environmental measures proposed under the 2019 Settlement, additional refinements to the proposed action, and new information on project-affected resources. On October 14, 2020, pursuant to the Endangered Species Act (ESA), Idaho Power filed revised draft biological assessments (BAs) for species managed by the U.S. Fish and Wildlife Service and the National Marine Fisheries Service, which were subsequently revised again in July 1 and July 16, 2025, filings. On October 23, 2024, Idaho Power filed a settlement agreement on behalf of itself and the Forest Service (2024 Settlement), resolving between the parties the appropriate terms and conditions pursuant to section 4(e) of the Federal Power Act to be incorporated into any new license issued for the project for the protection and utilization of federal lands administered by the Forest Service.

In accordance with Commission staff's June 13, 2022 notice of intent to prepare a draft and final SEIS, staff has prepared this draft SEIS to supplement the final EIS with analyses of the new and revised proposed measures and mandatory conditions (i.e., modified 4(e) conditions and 401 certification conditions) filed subsequent to the issuance of the final EIS, as well as the potential effects of the new and revised measures on federally listed species and their designated critical habitats. The draft SEIS describes staff's analysis of the applicant's proposal and the alternatives for relicensing the project and documents the views of governmental agencies, non-governmental organizations, affected Indian tribes, the public, the license applicant, and Commission staff.

The Commission provides all interested persons with an opportunity to view and/or print the draft SEIS via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

Any comments should be filed by 5:00 p.m. Eastern Standard Time on Monday, March 2, 2026.

The Commission strongly encourages electronic filing. Please file comments using the Commission's eFiling system at http://www.ferc.gov/docs-filing/efiling.asp. Commenters can submit brief comments up to 10,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-1971-079.

For public inquiries and assistance with making filings such as interventions, comments, or requests for rehearing, contact the Office of Public Participation at (202) 502-6595 or OPP@ferc.gov.

Anyone may intervene in this proceeding based on this draft SEIS (18 CFR 380.10). You must file your request to intervene as specified above.² You do not need intervenor status to have your comments considered.

² Interventions may also be filed electronically via the internet in lieu of paper. See the previous discussion on filing comments electronically.

The notice of intent included a schedule for preparing a draft and final SEIS, which was revised by notices issued on October 12, 2023, May 17, 2024, and April 24, 2025. By this notice, Commission staff is updating the procedural schedule for completing the final SEIS. The revised schedule is shown below. Further revisions to the schedule may be made as appropriate.

Milestone | Target date
Issue final SEIS | September 4, 2026.

For further information, contact Aaron Liberty, the Commission's relicensing coordinator for the project, at (202) 502-6862 or aaron.liberty@ferc.gov.

(Authority: 18 CFR 2.1)

Dated: January 14, 2026.
Debbie-Anne A. Reese,
Secretary.

[FR Doc. 2026-00983 Filed 1-16-26; 8:45 am]

BILLING CODE 6717-01-P